DEPARTMENT OF JUSTICE

Antitrust Division

Notice Pursuant to the National Cooperative Research and Production Act of 1993—DVD Copy Control Association

Notice is hereby given that, on June 22, 2006, pursuant to Section 6(a) of the National Cooperative Research and Production Act of 1993, 15 U.S.C. 4301 et seq. (“the Act”), DVD Copy Control Association (“DVD CCA”) has filed written notifications simultaneously with the Attorney General and the Federal Trade Commission disclosing changes in its membership. The notifications were filed for the purpose of extending the Act's provisions limiting the recovery of antitrust plaintiffs to actual damages under specified circumstances. Specifically, BeyondWiz Co., Ltd., Seongnam, Republic of Korea; CD Video Manufacturing, Inc., Santa Ana, CA; Hong Kong KONKA Ltd., Hong Kong, Hong Kong-China; Kawai Musical Instruments Mfg. Co., Ltd., Shizuoka, Japan; Shenzhen Mizuda AV Co., Ltd., Shenzhen, People's Republic of China; Teltron S.A.,Buenos Aires, Argentina; and Toyo Recording Co., Ltd., Tokyo, Japan have been added as parties to this venture.

Also, CIS Technology, Inc., Taipei Hsien, Taiwan; and Encentrus Systems Inc., Pointe-Claire, Quebec, Canada have withdrawn as parties to this venture. In addition, Favor Digital Technology Co., Ltd. has changed its name to Major Digital Technology Co., Ltd., Jiang Xi, People's Republic of China.

No other changes have been made to either the membership or planned activity of the group research project. Membership in this group research project remains open, and DVD CCA intends to file additional written notification disclosing all changes in membership.

On April 11, 2001, DVD CCA filed its original notification pursuant to Section 6(a) of the Act. The Department of Justice published a notice in the Federal Register pursuant to Section 6(b) of the Act on August 3, 2001 (66 FR 40727).

The last notification was filed with the Department on March 16, 2006. A notice was published in the Federal Register pursuant to Section 6(b) of the Act on April 12, 2006 (71 FR 18769).

Dorothy B. Fountain,
Deputy Director of Operations, Antitrust Division.

[FR Doc. 06-6359 Filed 7-19-06; 8:45 am]

BILLING CODE 4410-11-M